DEPARTMENT OF DEFENSE

Department of the Air Force

[Docket ID: USAF-2022-HQ-0009]

Proposed Collection; Comment Request

AGENCY: Department of the Air Force, Department of Defense (DoD).

ACTION: 60-Day information collection notice.

SUMMARY: In compliance with the Paperwork Reduction Act of 1995, Space Force, Space Systems Command, Space Domain Awareness & Combat Power (SDACP) and Battle Management Command, Control and Communications (BMC³) Program Executive Offices (PEOs) announce a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 24, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Space Force, Space Systems Command, SDACP & BMC³ Program Executive Offices, 483 N. Aviation Blvd., El Segundo, CA 90245-2808, Brent L. Davis, Lt Col, USSF, Chief of Staff to PEO SDACP & BMC³, (310) 653-1813, ssc.sz.exec@spaceforce.mil.

SUPPLEMENTARY INFORMATION:

Title; Associated Form; and OMB Number: Space Systems Command (SSC), Space Domain Awareness & Combat Power (SDACP) and Battle Management Command, Control and Communications (BMC³) Culture Assessment Survey; OMB Control Number 0701-SCAS.

Needs and Uses: SDACP and BMC³ leadership want to better understand the current culture within their two PEOs. The Culture Assessment Survey is designed to (1) collect information about the current climate to create a baseline and (2) identify potential obstacles. The voluntary Culture Assessment Survey focuses on the Space Force Values and Cultural Attributes and the questions ask whether the workforce is familiar with these values and cultural attributes and if there are barriers to achieving them. Booz Allen has been contracted to aggregate survey results to allow for anonymity. Booz Allen will highlight themes from the aggregated data and provide recommendations (e.g. job aids, branding, communications) to PEO leadership to help them achieve their desired culture.

Affected Public: Individuals or households.

Annual Burden Hours: 288.7.

Number of Respondents: 866.

Responses per Respondent: 1.

Annual Responses: 866.

Average Burden per Response: 20 minutes.

Frequency: Once.

Description: The SDACP & BMC³ Culture Assessment Survey co-sponsors (Deputy Program Executive Officers) will send an email to the workforce requesting they complete the voluntary survey, and this email will include the link to the survey, which is hosted on the web-based interface SurveyMonkey. The survey captures questions pertaining to participant demographics (e.g., location), Space Force values and cultural attributes, and organizational change management. Participants will submit their responses electronically and anonymously.

Dated: November 18, 2022.
Aaron T. Siegel,
Alternate OSD Federal Register Liaison Officer, Department of Defense.

[FR Doc. 2022-25632 Filed 11-23-22; 8:45 am]

BILLING CODE 5001-06-P